DEPARTMENT OF COMMERCE

National Oceanic and Atmospheric Administration

RIN 0648-XA638

Taking and Importing Marine Mammals; Taking Marine Mammals Incidental to U.S. Navy Operations of Surveillance Towed Array Sensor System Low Frequency Active Sonar

AGENCY: National Marine Fisheries Service (NMFS), National Oceanic and Atmospheric Administration (NOAA), Commerce.

ACTION: Notice; receipt of application for letter of authorization; request for comments and information.

SUMMARY: NMFS has received a request from the U.S. Navy (Navy) for authorization to take, by harassment, marine mammals incidental to conducting operations of Surveillance Towed Array Sensor System (SURTASS) Low Frequency Active (LFA) sonar for the period beginning August 2012 and ending August 2017. Pursuant to the implementing regulations of the Marine Mammal Protection Act (MMPA), NMFS is announcing our receipt of the Navy's request for regulations governing the incidental taking of marine mammals and inviting information, suggestions, and comments on the Navy's application and request.

DATES: Comments and information must be received no later than September 29, 2011.

ADDRESSES: Comments on the application should be addressed to P. Michael Payne, Chief, Permits, Conservation and Education Division, Office of Protected Resources, National Marine Fisheries Service, 1315 East-West Highway, Silver Spring, MD 20910-3225. The mailbox address for providing e-mail comments is ITP.Cody@noaa.gov. NMFS is not responsible for e-mail comments sent to addresses other than the one provided here. Comments sent via e-mail, including all attachments, must not exceed a 10-megabyte file size.

Instructions: All comments received are a part of the public record and will generally be posted to http://www.nmfs.noaa.gov/pr/permits/incidental.htm#applications without change. All Personal Identifying Information (for example, name, address, etc.) voluntarily submitted by the commenter may be publicly accessible. Do not submit Confidential Business Information or otherwise sensitive or protected information.

FOR FURTHER INFORMATION CONTACT: Jeannine Cody, Office of Protected Resources, NMFS, (301) 427-8401.

SUPPLEMENTARY INFORMATION:

Availability

An electronic copy of the Navy's application may be obtained by writing to the address specified above (See ADDRESSES), telephoning the contact listed above (see FOR FURTHER INFORMATION CONTACT), or visiting the internet at: http://www.nmfs.noaa.gov/pr/permits/incidental.htm#applications. The Navy released a draft Supplemental Environmental Impact Statement (DSEIS) for the employment of SURTASS LFA sonar on August 19, 2011. A copy of the DSEIS, which would also support NMFS' proposed rulemaking under the MMPA, is available at http://www.surtass-lfa-eis.com.

Background

Sections 101(a)(5)(A) and (D) of the Marine Mammal Protection Act of 1972, as amended (MMPA; 16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings shall be granted if NMFS finds that the taking will have a negligible impact on the species or stock(s), will not have an unmitigable adverse impact on the availability of the species or stock(s) for subsistence uses (where relevant), and if the permissible methods of taking and requirements pertaining to the mitigation, monitoring and reporting of such taking are set forth.

NMFS has defined “negligible impact” in 50 CFR 216.103 as “ * * * an impact resulting from the specified activity that cannot be reasonably expected to, and is not reasonably likely to, adversely affect the species or stock through effects on annual rates of recruitment or survival.”

With respect to military readiness activities, the MMPA defines “harassment” as:

(i) any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

On August 17, 2011, NMFS received an application from the Navy requesting authorization to take individuals of 94 species of marine mammals (70 cetaceans and 24 pinnipeds), by harassment, incidental to upcoming training, testing, and routine military operations (all categorized as military readiness activities) using SURTASS LFA sonar over the course of five years.

The Navy states that these training, testing, and routine military activities may expose some of the marine mammals present in the operational areas to sound from low-frequency active sonar sources. Because marine mammals may be harassed due to noise disturbance incidental to the use of SURTASS LFA sonar during training, testing, and routine military operations, the Navy requests authorization to take individuals of 94 species of marine mammals by Level B Harassment. Further, the Navy states that the probability of taking marine mammals by Level A Harassment is less than 0.001 percent. However, because the probability is not zero, the Navy has included Level A harassment in its authorization request.

This will be NMFS' third rule making for SURTASS LFA sonar operations under the MMPA. NMFS published the first rule effective from August 2002 through August 2007 on July 16, 2002 (67 FR 46712), and published the second rule effective from August 2007 through August 2012 on August 21, 2007 (72 FR 46846). For this third rule making, the Navy is proposing to conduct the same types of sonar activities in the proposed rule making as they have conducted over the past nine years in the previous two rule makings.

Specified Activities

The Navy proposes to deploy the system on a maximum of four U.S. Naval ships: the USNS ABLE, the USNS EFFECTIVE, the USNS IMPECCABLE and the USNS VICTORIOUS) in certain areas of the Pacific, Atlantic, and Indian Oceans and the Mediterranean Sea. Nominal at-sea missions for each vessel using SURTASS LFA sonar would last up to 294 days, with 240 days of active sonar transmissions and 54 days of transit. The maximum number of actual transmission hours per vessel would not exceed 432 hours annually. The application describes the activity types, the equipment and platforms involved, and the duration and potential locations of the specified activities.

Included within a larger suite of proposed mitigation measures for marine mammals that potentially could be affected during SURTASS LFA sonar operations, the Navy proposes to restrict the use of SURTASS LFA sonar such that it will not operate in Arctic and Antarctic waters, and sound pressure levels (SPL) will not exceed 180 decibels (dB) re 1 μPa (rms) within 12 nautical miles of any coastline or within designated offshore biologically important areas for marine mammals.

Information Solicited

Interested persons may submit information, suggestions, and comments concerning the Navy's request (see ADDRESSES). NMFS will consider all information, suggestions, and comments related to the Navy's request and NMFS' potential development and implementation of regulations governing the incidental taking of marine mammals by the Navy's SURTASS LFA sonar activities.

Dated: August 24, 2011.
James H. Lecky,
Director, Office of Protected Resources, National Marine Fisheries Service.

[FR Doc. 2011-22163 Filed 8-29-11; 8:45 am]

BILLING CODE 3510-22-P